DEPARTMENT OF LABOR

Employment and Training Administration

[TA-W-61,260]

Bayer Clothing Group, Target Sales Corp., Frisco, TX; Notice of Termination of Investigation

Pursuant to Section 221 of the Trade Act of 1974, as amended, an investigation was initiated on April 6, 2007 in response to a worker petition filed by a company official on behalf of workers at Bayer Clothing Group, Target Sales Corp., Frisco, Texas.

The petitioning group of workers is covered by an active certification, (TA-W-59,299C as amended) which expires on May 31, 2008. Consequently, further investigation in this case would serve no purpose, and the investigation has been terminated.

Signed at Washington, DC, this 8th day of May 2007.
Richard Church,
Certifying Officer, Division of Trade Adjustment Assistance.

[FR Doc. E7-9474 Filed 5-16-07; 8:45 am]

BILLING CODE 4510-FN-P